FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center Web site at www.ffiec.gov/nic/.

Unless otherwise noted, comments regarding each of these applications must be received at the Reserve Bank indicated or the offices of the Board of Governors not later than August 2, 2003.

A. Federal Reserve Bank of St. Louis (Randall C. Sumner, Vice President) 411 Locust Street, St. Louis, Missouri 63166-2034:

1. Cornerstone Bancshares, Inc., Lebanon, Missouri; to become a bank holding company by acquiring 100 percent of the voting shares of Heritage Bank of the Ozarks, Lebanon, Missouri, a de novo bank.

2. Mercantile Bancorp, Inc., Quincy, Illinois; to acquire up to 48.73 percent of the voting shares of Mid—America Bancorp, Inc., Leawood, Kansas, and thereby indirectly acquire Heartland Bank, Leawood, Kansas.

3. Peoples Bancshares Corp., Boonville, Indiana; to become a bank holding company by acquiring 100 percent of the Peoples Trust & Savings Bank, Boonville, Indiana.

B. Federal Reserve Bank of Minneapolis (Richard M. Todd, Vice President and Community Affairs Officer) 90 Hennepin Avenue, Minneapolis, Minnesota 55480-0291:

1. Tomah Bancshares, Inc., Tomah, Wisconsin; to become a bank holding company by acquiring 100 percent of the voting shares of Wabeno Bancorporation, Inc., Venice, Florida, and thereby indirectly acquire voting shares of Timberwood Bank, Wabeno, Wisconsin.

C. Federal Reserve Bank of Kansas City (James Hunter, Assistant Vice President) 925 Grand Avenue, Kansas City, Missouri 64198-0001:

1. Coffeyville Bancorp, Inc., Coffeyville, Kansas; to become a bank holding company by acquiring 100 percent of the voting shares of CSB Bancorp, Inc., Coffeyville, Kansas, and thereby indirectly acquire voting shares of Community State Bank, Coffeyville, Kansas.

2. Lauritzen Corporation, Omaha, Nebraska; to acquire up to 28 percent of the voting shares of First National of Nebraska, Inc., Omaha, Nebraska, and thereby indirectly acquire voting shares of First National Bank of Omaha, Omaha, Nebraska, First National Bank & Trust Company of Columbus, Columbus, Nebraska, First National Bank, North Platte, Nebraska, First National Bank South Dakota, Yankton, South Dakota, Platte Valley State Bank & Trust Company, Kearney, Nebraska, Fremont National Bank & Trust Company, Fremont, Nebraska, First National Bank of Kansas, Overland Park, Kansas; First National of Colorado, Inc., Fort Collins, Colorado, First National Bank, and thereby indirectly acquired shares of Fort Collins, Colorado; First National Bank of Colorado, Boulder, Colorado, Union Colony Bank, Greeley, Colorado, First National of Illinois, Omaha, Nebraska, and Castle Bank N.A., Dekalb, Illinois.

Board of Governors of the Federal Reserve System, July 3, 2003.
Jennifer J. Johnson,
Secretary of the Board.

[FR Doc. 03-17425 Filed 7-9-03; 8:45 am]

BILLING CODE 6210-01-S